DEPARTMENT OF COMMERCE

National Oceanic and Atmospheric Administration

RIN 0648-XG207

North Pacific Fishery Management Council; Public Meeting

AGENCY: National Marine Fisheries Service (NMFS), National Oceanic and Atmospheric Administration (NOAA), Commerce.

ACTION: Notice of public meeting.

SUMMARY: The North Pacific Fishery Management Council's (Council) Legislative Committee will meet on June 5, 2018 in Kodiak, AK.

DATES: The meeting will be held on Tuesday, June 5, 2018, from 8 a.m. to 12 p.m.

ADDRESSES: The meeting will be held in the Katurwik Room at the Kodiak Harbor Convention Center, 236 Rezanof Drive, Kodiak, AK 99615.

Council address: North Pacific Fishery Management Council, 605 W 4th Ave., Suite 306, Anchorage, AK 99501-2252; telephone: (907) 271-2809.

FOR FURTHER INFORMATION CONTACT: David Witherell, Council staff; telephone: (907) 271-2809.

SUPPLEMENTARY INFORMATION:

Agenda

Tuesday, June 5, 2018

The meeting agenda includes: (a) Update on MSA legislation and related bills, including CCC comments, (b) public comment, and (c) recommendations to the Council. The Agenda is subject to change, and the latest version will be posted at http://www.npfmc.org/.

Public Comment

Public comment letters will be accepted and should be submitted either electronically to David Witherell, Council staff: David.witherell@noaa.gov, or through the mail: North Pacific Fishery Management Council, 605 W 4th Ave., Suite 306, Anchorage, AK 99501-2252. In-person oral public testimony will be accepted at the scheduled place on the agenda.

Special Accommodations

The meeting is physically accessible to people with disabilities. Requests for sign language interpretation or other auxiliary aids should be directed to Shannon Gleason at (907) 271-2809 at least 7 working days prior to the meeting date.

Dated: May 11, 2018.
Tracey L. Thompson,
Acting Deputy Director, Office of Sustainable Fisheries, National Marine Fisheries Service.

[FR Doc. 2018-10449 Filed 5-15-18; 8:45 am]

BILLING CODE 3510-22-P